DEPARTMENT OF VETERANS AFFAIRS

Genomic Medicine Program Advisory Committee; Notice of Meeting

The Department of Veterans Affairs (VA) gives notice under Public Law 92-463 (Federal Advisory Committee Act) that the Genomic Medicine Program Advisory Committee will meet on October 22, 2010, at the Embassy Suites at the Chevy Chase Pavilion, 4300 Military Road, NW., Washington, DC. The meeting will convene at 9 a.m. and adjourn at 5 p.m. The meeting is open to the public.

The purpose of the Committee is to provide advice and make recommendations to the Secretary of Veterans Affairs on using genetic information to optimize medical care of Veterans and to enhance development of tests and treatments for diseases particularly relevant to Veterans.

The Committee will receive program updates from the VA program staff; continue to discuss optimal ways for VA to incorporate genomic information into its health care program while applying appropriate ethical oversight and protecting the privacy of Veterans; and receive updates on genomics initiatives within Patient Care Services; efforts to increase genetics education among VA Nursing Staff; and VA's latest efforts to improve its electronic medical records system.

Public comments will be received at 3 p.m. Public comments will be limited to five minutes each. Individuals who speak are invited to submit 1-2 page summaries of their comments at the time of the meeting for inclusion in the official meeting record. Any member of the public seeking additional information should contact Dr. Sumitra Muralidhar, Designated Federal Officer, at sumitra.muralidhar@va.gov or (202) 461-1669.

Dated: September 30, 2010.
By Direction of the Secretary.
Vivian Drake,
Acting Committee Management Officer.

[FR Doc. 2010-25062 Filed 10-5-10; 8:45 am]

BILLING CODE 8320-01-P